DEPARTMENT OF HEALTH AND HUMAN SERVICES

Health Resources and Services Administration

Notice To Announce Supplemental Awards To Support Training and Technical Assistance To Address Intimate Partner Violence

AGENCY: Health Resources and Services Administration (HRSA), Department of Health and Human Services.

ACTION: Notice of Supplemental Awards.

SUMMARY: HRSA provided supplemental funding to two current National Training and Technical Assistance Partners award recipients to advance HRSA's Strategy to Address Intimate Partner Violence by expanding critical training and technical assistance (T/TA) to health centers.

FOR FURTHER INFORMATION CONTACT: Tracey Orloff, Director, HRSA, Strategic Partnerships Division, Office of Quality Improvement, at TOrloff@hrsa.gov or (301) 443-3197.

SUPPLEMENTARY INFORMATION:

Recipients of the Award: School-Based Health Alliance (SBHA) and Futures without Violence (Futures).

Amount of Non-Competitive Award: $75,000 for SBHA and $100,000 for Futures.

Period of Supplemental Funding: Fiscal year 2020 and ongoing annually to the end of the project period, contingent upon availability of funds and recipient performance.

CFDA Number: 93.129.

Authority: Section 330(l) of the Public Health Service Act, 42 U.S.C. 254b(l).

Justification: Supplemental funding to SBHA and Futures is necessary to ensure timely implementation of expanded T/TA that builds upon current T/TA activities to strengthen health center capacity to identify, prevent, and address intimate partner violence (IPV) and its effects. SBHA's expanded T/TA will result in new and strengthened health center partnerships to protect and support children, increased health center capacity to address social determinants of health, and expanded health center strategies to prevent violence. Futures' expanded T/TA will expand health center use of electronic health records to support IPV and human trafficking interventions, increase collection of health center IPV and human trafficking data, and strengthen the use of health information technology to connect health center patients to referral services and support. The award recipients have the demonstrated subject matter expertise and experience required to swiftly address these time-sensitive needs.

Thomas J. Engels,
Administrator.

[FR Doc. 2020-21573 Filed 9-29-20; 8:45 am]

BILLING CODE 4165-16-P